DEPARTMENT OF THE INTERIOR

Bureau of Land Management

[ES-020-1430-EU]

Notice of Intent To Prepare a Resource Management Plan Amendment for the Dune Allen II Tract

AGENCY: Bureau of Land Management, Interior.

ACTION: Notice of Intent.

SUMMARY: The Bureau of Land Management Eastern States (BLM-ES) Jackson Field Office, in Jackson, Mississippi, is initiating the preparation of a Resource Management Plan Amendment to consider the disposal of public land (Dune Allen II Tract) in Walton County, Florida. This action will require the preparation of an Environmental Assessment (EA).

DATES: Submit comments on or before July 9, 2004.

ADDRESSES: Send written comments to BLM-ES, Jackson Field Office; 411 Briarwood Drive, Suite 404, Jackson MS 39206.

FOR FURTHER INFORMATION CONTACT: Elizabeth Allison, Land Use Planner, (601) 977 4413

SUPPLEMENTARY INFORMATION: The RMP Amendment will consider the disposal (direct sale) of public land located in:

Tallahassee Meridian, Florida

T. 3 S., R. 10 W.

Sec. 3, Lot 37

Containing 0.58 acres, more or less.

The land is identified as the Dune Allen II tract in the Florida Proposed Resource Management Plan and Final Environmental Impact Statement (October 1994) and Florida Resource Management Plan and Record of Decision (September 1995). The Palms of Dune Allen Homeowners Association, a non-profit organization, has proposed to purchase, by direct sale, from the United States 0.58 of an acre of public land in Walton County, Florida. The Dune Allen II tract has a boardwalk crossing the dune area (October 1994 RMP). The continued, proposed use of the land, if it is sold, would essentially be limited to the maintenance and use of the boardwalk. The beachfront property lies on the Gulf of Mexico in the Florida panhandle. The coastal environment adjacent to the land has been substantially modified by construction of roads, beach houses and condominiums. The land is closed to off-highway vehicle (OHV) use (October 1994 RMP).

Preliminary Topic

The preliminary topic, for this planning effort, has been identified by BLM personnel. The anticipated topic, that will be addressed in the RMP Amendment, is limited to the proposed transfer of land from government ownership to private ownership. If the tract were to be transferred to private ownership, protective covenants would be included with the transfer of title. These protective covenants would ensure the land is used for both the maintenance of the boardwalk and public access to the beach. This notice initiates the public scoping process.

BLM staff will review additional concerns raised by the public. Determinations will be made as to whether they (1) will be addressed in the RMP Amendment or (2) are outside the scope of the RMP Amendment.

Planning Criteria

Preliminary planning criteria have been developed to guide the preparation of this RMP Amendment and are listed below.

1. Land use planning (RMP Amendment) and environmental analysis (EA) will be conducted in accordance with laws, regulations, executive orders and manuals. Planning will be conducted for the land under the administration of BLM.

2. Land use policy, for either the continued retention or proposed disposal of this land, will determine for this BLM-administered land after the RMP Amendment is completed.

3. Resource data, needed to evaluate the impacts of the proposed sale of this land, will be collected, as needed.

4. BLM staff will work cooperatively with (a) county and local governments and agencies, (b) groups and organizations and (c) individuals. These criteria are not final and may be refined by public input (comment).

Multiple Resource Considerations

An interdisciplinary team approach will be used, as needed, to address resource issues in this RMP Amendment. The tentative resource programs that will be addressed include lands and realty, socioeconomics, soils, water, and wildlife.

Public Participation

This notice initiates the National Environmental Policy Act (NEPA) public scoping process (CFR, Title 43, part 1610, Section 2(c) and Title 40, part 1501, Section 7). The BLM will work collaboratively with interested parties to identify the management decision that is best suited to local needs and concerns. The public is invited to participate in this planning process, beginning with the identification of issues and planning criteria for the RMP Amendment. Comments relating to the preliminary issues and planning criteria (listed above) can be submitted in writing to BLM-ES Jackson Field Office; 411 Briarwood Drive, Suite 404, Jackson MS 39206.

This planning process will emphasize localized one-to-one contacts and continual coordination and collaboration. Meetings may be held, if they are needed to (1) determine the scope of the RMP Amendment and (2) obtain input on issues and planning criteria. All public meetings will be announced through the local news media at least 15 days prior to the event.

Confidentiality

Individuals who submit comments may request confidentiality. If you wish to withhold your name or street address from public review or from disclosure under the Freedom of Information Act, you must state this prominently at the beginning of your written comment. Such requests will be honored to the extent allowed by law. BLM will not consider anonymous comments. All submissions from (1) organizations and businesses and (2) individuals identifying themselves as representatives or officials of organizations or businesses will be available for public review in their entirety.

Submit electronic comments as an ASCII file avoiding the use of special characters and any form of encryption. The BLM also accepts comments and data on disks in WordPerfect 7 (and higher) and Word 97 (and higher) file formats or the ASCII file format. Identify all comments and data in electronic form by the docket number [PP 4F4327/R2253].

(Authority: 43 U.S.C. 1711-1712, CFR Title 43, part 1610, Section 2(c); 42 U.S.C. 4321 et seq., CFR Title 40, part 1507, Section 7.)
Dated: April 22, 2004.
Michael D. Nedd,
State Director.

[FR Doc. 04-13000 Filed 6-8-04; 8:45 am]

BILLING CODE 4310-GJ-P